DEPARTMENT OF TRANSPORTATION

Surface Transportation Board

[Docket No. FD 35750]

Ramsey County Regional Railroad Authority—Acquisition Exemption—Right to Restore Rail Service Over a Railbanked Right-of-Way in Ramsey County, Minn.

Ramsey County Regional Railroad Authority (RCRRA), a noncarrier political subdivision of the State of Minnesota, has filed a verified notice of exemption under 49 CFR 1150.31 to acquire from the City of Maplewood, Minn. (the City), the right to restore rail service over a rail banked right-of-way, a distance of .67 miles, extending between milepost 7.19, approximately 100 feet north of Interstate Highway I-694 in White Bear Township, and milepost 6.52, approximately 50 feet north of Beam Avenue in the City (the line), in Ramsey County, Minn.

In a related prior transaction, BNSF Railway Company (BNSF) filed a verified notice of exemption to abandon the line,¹ and the Board issued a Notice of Interim Trail Use or Abandonment (NITU) under section 8(d) of the National Trails System Act, 16 U.S.C. 1247(d), and 49 CFR 1152.29 to permit the City to negotiate with BNSF to acquire the line for use as a trail (rail banking/interim trail use).² On October 28, 2005, the parties filed, in the abandonment docket, a notice that a rail banking/interim trail use agreement had been reached.³ By quitclaim deed dated September 26, 2005, BNSF conveyed the line to the City along with BNSF's right to restore service over the right-of-way. The City obtained Board authority to acquire the right to restore rail service in 2010.⁴ The City stated that it or an operator contracted by the City would operate over the line if service were restored.

¹ BNSF Railway—Aban. Exemption—in Ramsey Cnty., Minn., AB 6 (Sub.-No. 429X) (STB served Aug. 10, 2005).

² BNSF Railway—Aban. Exemption—in Ramsey Cnty., Minn., AB 6 (Sub.-No. 429X) (STB served Sept. 8, 2005).

³ See Notice of Interim Trail Use Agreement, BNSF Railway—Aban. Exemption—in Ramsey Cnty., Minn., AB 6 (Sub.-No. 429X) (filed Oct. 28, 2005).

⁴ City of Maplewood, Minn.—Aquis. Exemption—Right to Restore Rail Serv. Over a Railbanked Right-of-Way in Ramsey Cnty., Minn., FD 35450 (STB served Dec. 23, 2010).

The City and RCRRA now seek to convey the right to restore rail service over the right-of-way from the City to RCRRA.⁵ The parties state that an agreement between RCRRA and the City has been reached for RCRRA's acquisition of the City's right to restore rail service over the right-of-way. RCRRA or an operator contracted by RCRRA would operate the rail line if rail service were to be restored.

⁵ RCRRA and the City have also filed a petition to substitute trail user, pursuant to which RCRRA seeks to become the trail sponsor of the line. BNSF Railway—Aban. Exemption—in Ramsey Cnty., Minn., AB 6 (Sub.-No. 429X) (filed July 3, 2013).

The transaction is expected to be consummated on or after August 2, 2013 (30 days after the exemption was filed).

RCRRA certifies that its projected annual revenues from the acquisition involved in this proceeding do not exceed $5 million or exceed those that would qualify it as a Class III carrier.

If the notice contains false or misleading information, the exemption is void ab initio. Petitions to revoke the exemption under 49 U.S.C. 10502(d) may be filed at any time. The filing of a petition to revoke will not automatically stay the effectiveness of the exemption. Petitions to stay must be filed no later than July 26, 2013 (at least 7 days before the exemption becomes effective).

An original and 10 copies of all pleadings, referring to Docket No. FD 35750, must be filed with the Surface Transportation Board, 395 E Street SW., Washington, DC 20423-0001. In addition, one copy of each pleading must be served on Thomas F. McFarland, Thomas F. McFarland, P.C., 208 South LaSalle Street, Suite 1890, Chicago, IL 60604-1112.

Board decisions and notices are available on our Web site at www.stb.dot.gov.

Decided: July 12, 2013.
By the Board, Rachel D. Campbell, Director, Office of Proceedings.
Derrick A. Gardner,
Clearance Clerk.

[FR Doc. 2013-17275 Filed 7-18-13; 8:45 am]

BILLING CODE 4915-01-P